DEPARTMENT OF STATE

[Public Notice 6711]

Shipping Coordinating Committee; Notice of Committee Meeting

The Shipping Coordinating Committee (SHC) will conduct an open meeting at 9:30 a.m. Wednesday November 4, 2009, Tuesday December 15, 2009, and Tuesday February 23, 2010 in suite 1060 of the Radio Technical Commission for Maritime Services (RTCM), 1800 North Kent Street, Arlington, VA 22209. The primary purpose of the meetings is to prepare for the 14th Session of the International Maritime Organization (IMO) Subcommittee on Radiocommunications and Search and Rescue scheduled for the week of March 8-12, 2010, in London, England.

The primary matters to be considered include:

—Adoption of the agenda.

—Decisions of other IMO bodies.

—Global Maritime Distress and Safety System (GMDSS).

—ITU Radiocommunication matters.

—Satellite services (Inmarsat and COSPAS-SARSAT).

—Matters concerning search and rescue, including those related to the 1979 SAR Conference and the implementation of the GMDSS.

—Developments in maritime radiocommunication systems and technology.

—Revision of the IAMSAR Manual.

—Development of procedures for updating shipborne navigation and communication equipment.

—Measures to protect the safety of persons rescued at sea.

—Safety provisions applicable to tenders operating from passenger ships.

—Development of an e-navigation strategy implementation plan.

—Revision of Performance Standards for Float-Free Satellite EPIRBs operating on 406 MHz (resolution A.810(19)).

—Any other business such as papers submitted by other delegations to the Subcommittee.

Members of the public may attend this meeting up to the seating capacity of the room. To facilitate attendance, those who plan to attend should contact the meeting coordinator, Mr. Russell S. Levin, by writing: U.S. Coast Guard Headquarters, Commandant (CG-622), 2100 Second Street, SW., Stop 7101, Washington DC, 20593-7101 or by sending Internet electronic mail to Russell.S.Levin@USCG.mil not later than 72 hours before the meeting. A member of the public needing reasonable accommodation should make his or her request at least 7 days prior to a meeting. Requests submitted after that date will be considered, but might not be able to be fulfilled. Additional information regarding this and other IMO SHC public meetings may be found at: http://www.uscg.mil/hq/cg5/imo.

Dated: October 14, 2009.
J. Trent Warner,
Executive Secretary, Shipping Coordinating Committee, Department of State.

[FR Doc. E9-25180 Filed 10-19-09; 8:45 am]

BILLING CODE 4710-09-P